DEPARTMENT OF COMMERCE

National Oceanic and Atmospheric Administration

Agency Information Collection Activities; Submission to the Office of Management and Budget (OMB) for Review and Approval; Comment Request; Implementation of Vessel Speed Restrictions To Reduce the Threat of Ship Collisions With North Atlantic Right Whales

AGENCY: National Oceanic & Atmospheric Administration (NOAA), Commerce.

ACTION: Notice of information collection, request for comment.

SUMMARY: The Department of Commerce, in accordance with the Paperwork Reduction Act of 1995 (PRA), invites the general public and other Federal agencies to comment on proposed, and continuing information collections, which helps us assess the impact of our information collection requirements and minimize the public's reporting burden. The purpose of this notice is to allow for 60 days of public comment preceding submission of the collection to OMB.

DATES: To ensure consideration, comments regarding this proposed information collection must be received on or before November 21, 2023.

ADDRESSES: Interested persons are invited to submit written comments to Adrienne Thomas, NOAA PRA Officer, at NOAA.PRA@noaa.gov. Please reference OMB Control Number 0648-0580 in the subject line of your comments. Do not submit Confidential Business Information or otherwise sensitive or protected information.

FOR FURTHER INFORMATION CONTACT: Requests for additional information or specific questions related to collection activities should be directed to Meghan Gahm, NOAA Fisheries Office of Protected Resources, 1315 East-West Highway, 13th Floor, Silver Spring, MD 20910; (301) 427-8494; meghan.gahm@noaa.gov.

SUPPLEMENTARY INFORMATION:

I. Abstract

The National Marine Fisheries Service (NMFS) is requesting renewal of a currently approved collection of information. On October 10, 2008, NMFS published a final rule with regulations (0648-AS36) implementing seasonal speed restrictions along the east coast of the U.S. to reduce the incidence and severity of vessel collisions with endangered North Atlantic right whales (73 FR 60173). The final rule contained a mandatory collection-of-information requirement subject to the Paperwork Reduction Act (PRA). Specifically, 50 CFR 224.105(c) requires a logbook entry to document that a deviation from the speed limit was necessary for safe maneuverability under certain conditions. On November 18, 2021, the information collection was revised to include a voluntary survey of vessel operators to evaluate their ability and willingness to: (1) comply with North Atlantic right whale mandatory speed restrictions, and (2) cooperate with voluntary speed reduction efforts to protect North Atlantic right whales, which are promoted through NMFS outreach efforts. NOAA collects information from two types of vessels (pleasure yachts and large ocean-going vessels) in two different areas of the North Atlantic right whales' range using voluntary online surveys and small focus groups. The surveys collect information about vessel operators' time spent on the water, experience and knowledge about large whales, knowledge of North Atlantic vessel strike reduction efforts, opinions about these whales and conservation efforts, and their preferred means of receiving information. Results from this information collection will be used to develop effective outreach to these vessel communities, with the long-term goal of improving the communities' compliance with mandatory measures and cooperation with voluntary measures that support North Atlantic right whale vessel strike reduction conservation efforts.

II. Method of Collection

Vessel logbook entries are required from vessel operators if an exception to the vessel speed restriction is invoked, and the speed limit exceeded. Typically, paper logbooks are not routinely submitted to a federal agency and remain entirely on individual vessels. However, logbooks may be requested by federal authorities if questions arise regarding the circumstances under which the deviation was invoked. Voluntary survey effort information is collected in three ways: (1) electronically; (2) in-person focus groups; or (3) virtual focus groups.

III. Data

OMB Control Number: 0648-0580.

Form Number(s): None.

Type of Review: Regular submission [extension of an approved information collection].

Affected Public: Individuals or households; Business or other for-profit organizations.

Estimated Number of Respondents: 3,624.

Estimated Time per Response: Five minutes for safety deviation logbook entry; one hour for electronic survey; two hours and 30 minutes for focus groups.

Estimated Total Annual Burden Hours: 674.

Estimated Total Annual Cost to Public: 0.

Respondent's Obligation: Logbook entries are required to lawfully deviate from the speed regulations; survey is voluntary.

Legal Authority: Endangered Species Act, 16 U.S.C. 1531 et seq.; and Marine Mammal Protection Act, 16 U.S.C. 1361 et seq.

IV. Request for Comments

We are soliciting public comments to permit the Department/Bureau to: (a) Evaluate whether the proposed information collection is necessary for the proper functions of the Department, including whether the information will have practical utility; (b) Evaluate the accuracy of our estimate of the time and cost burden for this proposed collection, including the validity of the methodology and assumptions used; (c) Evaluate ways to enhance the quality, utility, and clarity of the information to be collected; and (d) Minimize the reporting burden on those who are to respond, including the use of automated collection techniques or other forms of information technology.

Comments that you submit in response to this notice are a matter of public record. We will include or summarize each comment in our request to OMB to approve this ICR. Before including your address, phone number, email address, or other personal identifying information in your comment, you should be aware that your entire comment—including your personal identifying information—may be made publicly available at any time. While you may ask us in your comment to withhold your personal identifying information from public review, we cannot guarantee that we will be able to do so.

Sheleen Dumas,
Department PRA Clearance Officer, Office of the Under Secretary for Economic Affairs, Commerce Department.

[FR Doc. 2023-20567 Filed 9-21-23; 8:45 am]

BILLING CODE 3510-22-P